DEPARTMENT OF THE INTERIOR

National Park Service

[NPS-WASO-NAGPRA-NPS0027851; PPWOCRADN0-PCU00RP14.R50000]

Notice of Inventory Completion: History Colorado, Formerly Colorado Historical Society, Denver, CO

AGENCY: National Park Service, Interior.

ACTION: Notice.

SUMMARY: History Colorado has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the History Colorado. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to History Colorado at the address in this notice by July 5, 2019.

ADDRESSES: Alisa DiGiacomo, History Colorado, 1200 Broadway, Denver, CO 80203, telephone (303) 866-4687, email alisa.digiacomo@state.co.us.

SUPPLEMENTARY INFORMATION: Notice is here given in accordance with the Native American Graves Protection and Repatriation Act (NAGPRA), 25 U.S.C. 3003, of the completion of an inventory of human remains and associated funerary objects under the control of History Colorado, Denver, CO. The human remains and associated funerary objects were removed from Montezuma and La Plata Counties, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by History Colorado professional staff in consultation with representatives of the Hopi Tribe, Arizona; Jicarilla Apache Nation, New Mexico; Kiowa Indian Tribe of Oklahoma; Mescalero Apache Tribe of the Mescalero Reservation, New Mexico; Navajo Nation, Arizona, New Mexico & Utah; Pueblo of Acoma, New Mexico; Pueblo of Laguna, New Mexico; Pueblo of Nambe, New Mexico; Pueblo of Pojoaque, New Mexico; Pueblo of San Felipe, New Mexico; Pueblo of San Ildefonso, New Mexico; Pueblo of Sandia, New Mexico; Pueblo of Santa Clara, New Mexico; Pueblo of Taos, New Mexico; Pueblo of Tesuque, New Mexico; Pueblo of Zia, New Mexico; Southern Ute Indian Tribe of the Southern Ute Reservation, Colorado; Ute Mountain Ute Tribe (previously listed as the Ute Mountain Tribe of the Ute Mountain Reservation, Colorado, New Mexico & Utah); Ysleta del Sur Pueblo (previously listed as the Ysleta Del Sur Pueblo of Texas); and the Zuni Tribe of the Zuni Reservation, New Mexico.

The Ohkay Owingeh, New Mexico (previously listed as the Pueblo of San Juan); Pueblo of Isleta, New Mexico; Pueblo of Jemez, New Mexico; Pueblo of Picuris, New Mexico; and the Pueblo of Santa Ana, New Mexico were invited to consult but did not do so.

Hereafter, all the Tribes listed above are referred to as “The Consulted and Invited Tribes.”

History and Description of the Remains

In March 2018, human remains representing, at minimum, three individuals were removed from 5MT20855 in Montezuma County, CO. The individuals were removed during archeological monitoring for Kinder Morgan CO2 Company's proposed Well Pad and Access Road construction. The human remains were transferred to the Office of Archaeology and Historic Preservation (OAHP) in September 2018, and are identified as OAHP Case Number 331. The human remains represent one adult female 25-35 years of age, one adult female 45-65 years of age, and one adult male 25-60 years of age. No known individuals were identified. The 11 associated funerary objects are one lot of gray ware sherds representing a bowl, one lot of white ware sherds representing a bowl, one lot of stone flakes, three lots of sherds, one Mancos grayware pitcher, one polishing stone, one piece of ground stone in two sections, and two burned juniper slabs.

The site at 5MT20855 is a multicomponent, seasonal habitation site. The architecture and ceramics recovered from the component associated with these individuals date to the late Basketmaker III/Pueblo I periods (A.D. 550-900). Osteological analysis by Woods Canyon Archaeological Consultants determined the individuals to be Native American. The preponderance of the evidence, including geographical location, archeological evidence (including site architecture and material culture), biological evidence, and continuity of key cultural traits through time, shows that the site is associated with the Ancestral Puebloan occupations of the southwestern United States from the Basketmaker II period through the Pueblo III period (approximately 1000 B.C. to A.D. 1300).

In the 1930s, human remains representing one individual were removed from Blue Mesa, La Plata County, CO. A second individual was removed from Yellow Jacket Canyon, Montezuma County, CO. A third individual is represented by a tooth, and was collected with one of the other individuals, but it is unclear which one. In the 1970s, the collectors Homer Root and Charles McLean gave the human remains of these three individuals to a private citizen. The transferee's son found them in 2018, while handling his deceased father's estate. Root and McLean indicated that the human remains came from Basketmaker and Pueblo burials. In August 2018, the county coroners ruled out a forensic interest, where upon the human remains were transferred to History Colorado. They are identified as OAHP Case Number 336. No known individuals were identified. No associated funerary objects are present.

Osteological analysis by Dr. Christine Pink determined the individuals to be Native American. The geographical areas from which the human remains were removed contain numerous documented Ancestral Puebloan sites. Root and McLean were knowledgeable about Ancestral Puebloan burials. Root was an avid collector of Ancestral Pueblo human remains and goods, and led field schools for Fort Lewis College from 1965 to 1969. The preponderance of the evidence, including geographical location, biological evidence, and expert opinion regarding burial context, shows that the human remains are associated with the Ancestral Puebloan occupations of the southwestern United States from the Basketmaker II period through the Pueblo III period (approximately 1000 B.C. to A.D. 1300).

Evidence for the cultural affiliation of the human remains in this notice was gathered from tribal consultations, physical examination of the human remains, a survey of acquisition history, a review of current available archeological, ethnographic, historical, anthropological and linguistic literature, and artifact analysis.

Determinations Made by the History Colorado

Officials of History Colorado have determined that:

• Pursuant to 25 U.S.C. 3001(9), the human remains described in this notice represent the physical remains of six individuals of Native American ancestry.

• Pursuant to 25 U.S.C. 3001(3)(A), the 11 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona; Ohkay Owingeh, New Mexico (previously listed as the Pueblo of San Juan); Pueblo of Acoma, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as the Ysleta Del Sur Pueblo of Texas); and the Zuni Tribe of the Zuni Reservation, New Mexico, hereafter referred to as “The Affiliated Tribes.”

Additional Requestors and Disposition

Lineal descendants or representatives of any Indian Tribe or Native Hawaiian organization not identified in this notice that wish to request transfer of control of these human remains and associated funerary objects should submit a written request with information in support of the request to Alisa DiGiacomo, History Colorado, 1200 Broadway, Denver, CO 80203, telephone (303) 866-4687, email alisa.digiacomo@state.co.us, by July 5, 2019. After that date, if no additional requestors have come forward, transfer of control of the human remains and associated funerary objects to The Affiliated Tribes may proceed.

History Colorado is responsible for notifying The Consulted and Invited Tribes that this notice has been published.

Dated: May 3, 2019.
Melanie O'Brien,
Manager, National NAGPRA Program.

[FR Doc. 2019-11538 Filed 6-3-19; 8:45 am]

BILLING CODE 4312-52-P